Title 3—

The President

Executive Order 13849 of September 20, 2018

Authorizing the Implementation of Certain Sanctions Set Forth in the Countering America's Adversaries Through Sanctions Act

By the authority vested in me as President by the Constitution and the laws of the United States of America, including the International Emergency Economic Powers Act (50 U.S.C. 1701 et seq.) (IEEPA), the National Emergencies Act (50 U.S.C. 1601 et seq.), the Countering America's Adversaries Through Sanctions Act (Public Law 115-44) (CAATSA), the Ukraine Freedom Support Act of 2014 (Public Law 113-272), as amended (UFSA), section 212(f) of the Immigration and Nationality Act of 1952 (8 U.S.C. 1182(f)), and section 301 of title 3, United States Code,

I, DONALD J. TRUMP, President of the United States of America, in order to take additional steps with respect to the national emergencies declared in Executive Order 13660 of March 6, 2014, as expanded in scope and relied upon for additional steps taken in subsequent Executive Orders, and Executive Order 13694 of April 1, 2015, as relied upon for additional steps taken in Executive Order 13757 of December 28, 2016, hereby order:

Section 1. (a) When the President, or the Secretary of State or the Secretary of the Treasury pursuant to authority delegated by the President and in accordance with the terms of such delegation, has determined that sanctions shall be imposed on a person pursuant to sections 224(a)(2), 231(a), 232(a), or 233(a) of CAATSA and has selected from section 235 of CAATSA any of the sanctions set forth below to impose on that person, the Secretary of the Treasury, in consultation with the Secretary of State, shall take the following actions where necessary to implement the sanctions selected and maintained by the President, the Secretary of State, or the Secretary of the Treasury:

(i) prohibit any United States financial institution from making loans or providing credits to the sanctioned person totaling more than $10,000,000 in any 12-month period, unless the person is engaged in activities to relieve human suffering and the loans or credits are provided for such activities;

(ii) prohibit any transactions in foreign exchange that are subject to the jurisdiction of the United States and in which the sanctioned person has any interest;

(iii) prohibit any transfers of credit or payments between financial institutions, or by, through, or to any financial institution, to the extent that such transfers or payments are subject to the jurisdiction of the United States and involve any interest of the sanctioned person;

(iv) block all property and interests in property of the sanctioned person that are in the United States, that hereafter come within the United States, or that are or hereafter come within the possession or control of any United States person, and provide that such property and interests in property may not be transferred, paid, exported, withdrawn, or otherwise dealt in;

(v) prohibit any United States person from investing in or purchasing significant amounts of equity or debt instruments of the sanctioned person; or

(vi) impose on the principal executive officer or officers of the sanctioned person, or on persons performing similar functions and with similar authorities as such officer or officers, the sanctions described in subsections (a)(i)-(a)(v) of this section, as selected by the President, the Secretary of State, or the Secretary of the Treasury.

(b) The prohibitions in subsection (a)(iv) of this section include:

(i) the making of any contribution or provision of funds, goods, or services by, to, or for the benefit of any sanctioned person whose property and interests in property are blocked pursuant to this order; and

(ii) the receipt of any contribution or provision of funds, goods, or services from any such sanctioned person.

(c) The prohibitions in this section apply except to the extent provided by statutes, or in regulations, orders, directives, or licenses that may be issued pursuant to this order, and notwithstanding any contract entered into or any license or permit granted prior to the date of this order.

Sec. 2. (a) When the President, or the Secretary of State or the Secretary of the Treasury pursuant to authority delegated by the President and in accordance with the terms of such delegation, has determined that sanctions shall be imposed on a person pursuant to sections 224(a)(2), 231(a), 232(a), or 233(a) of CAATSA and has selected from section 235 of CAATSA any of the sanctions set forth below to impose on that person, the heads of relevant departments and agencies, in consultation with the Secretary of State and the Secretary of the Treasury, as appropriate, shall ensure that the following actions are taken where necessary to implement the sanctions selected and maintained by the President, the Secretary of State, or the Secretary of the Treasury:

(i) The Export-Import Bank shall deny approval of the issuance of any guarantee, insurance, extension of credit, or participation in an extension of credit in connection with the export of any goods or services to the sanctioned person;

(ii) Departments and agencies shall not issue any specific license or grant any other specific permission or authority under any statute that requires the prior review or approval of the United States Government as a condition for the export or reexport of goods or technology to the sanctioned person;

(iii) The United States executive director of each international financial institution shall use the voice and vote of the United States to oppose any loan from the international financial institution that would benefit the sanctioned person;

(iv) With respect to a sanctioned person that is a financial institution: the Board of Governors of the Federal Reserve System and the Federal Reserve Bank of New York shall not designate, or permit the continuation of any prior designation of, the sanctioned person as a primary dealer in United States Government debt instruments; and departments and agencies shall prevent the sanctioned person from serving as an agent of the United States Government or serving as a repository for United States Government funds;

(v) Departments and agencies shall not procure, or enter into a contract for the procurement of, any goods or services from the sanctioned person;

(vi) The Secretary of State shall deny a visa to, and the Secretary of Homeland Security shall exclude from the United States, any alien that the President, the Secretary of State, or the Secretary of the Treasury determines is a corporate officer or principal of, or a shareholder with a controlling interest in, the sanctioned person by treating the person as covered by section 1 of Proclamation 8693 of July 24, 2011 (Suspension of Entry of Aliens Subject to United Nations Security Council Travel Bans and International Emergency Economic Powers Act Sanctions); or

(vii) The heads of the relevant departments and agencies, as appropriate, shall impose on the principal executive officer or officers of the sanctioned person, or on persons performing similar functions and with similar authorities as such officer or officers, the sanctions described in subsections (a)(i)-(a)(vi) of this section, as selected by the President, the Secretary of State, or the Secretary of the Treasury.

(b) The prohibitions in this section apply except to the extent provided by statutes, or in regulations, orders, directives, or licenses that may be issued pursuant to this order, and notwithstanding any contract entered into or any license or permit granted prior to the date of this order.

Sec. 3. (a) When the President, or the Secretary of State or the Secretary of the Treasury pursuant to authority delegated by the President and in accordance with the terms of such delegation, has determined that sanctions shall be imposed on a person pursuant to section 224(a)(3) of CAATSA or sections 4(a) or 4(b) of UFSA and has selected from section 4(c) of UFSA any of the sanctions set forth below to impose on that person, the Secretary of the Treasury, in consultation with the Secretary of State, shall take the following actions where necessary to implement the sanctions selected and maintained by the President, the Secretary of State, or the Secretary of the Treasury:

(i) block all property and interests in property of the sanctioned person that are in the United States, that hereafter come within the United States, or that are or hereafter come within the possession or control of any United States person, and provide that such property and interests in property may not be transferred, paid, exported, withdrawn, or otherwise dealt in;

(ii) prohibit any transfers of credit or payments between financial institutions, or by, through, or to any financial institution, to the extent that such transfers or payments are subject to the jurisdiction of the United States and involve any interest of the sanctioned person;

(iii) prohibit any United States person from transacting in, providing financing for, or otherwise dealing in certain debt or equity of the sanctioned person, in accordance with section 4(c)(7) of UFSA; or

(iv) impose on the principal executive officer or officers of the sanctioned person, or on persons performing similar functions and with similar authorities as such officer or officers, the sanctions described in subsections (a)(i)-(a)(iii) of this section, as selected by the President, the Secretary of State, or the Secretary of the Treasury.

(b) The prohibitions in subsection (a)(i) of this section include:

(i) the making of any contribution or provision of funds, goods, or services by, to, or for the benefit of any sanctioned person whose property and interests in property are blocked pursuant to this order; and

(ii) the receipt of any contribution or provision of funds, goods, or services from any such sanctioned person.

(c) The prohibitions in this section apply except to the extent provided by statutes, or in regulations, orders, directives, or licenses that may be issued pursuant to this order, and notwithstanding any contract entered into or any license or permit granted prior to the date of this order.

Sec. 4. (a) When the President, or the Secretary of State or the Secretary of the Treasury pursuant to authority delegated by the President and in accordance with the terms of such delegation, has determined that sanctions shall be imposed on a person pursuant to section 224(a)(3) of CAATSA or sections 4(a) or 4(b) of UFSA and has selected from section 4(c) of UFSA any of the sanctions set forth below to impose on that person, the heads of relevant departments and agencies, in consultation with the Secretary of State and the Secretary of the Treasury, as appropriate, shall ensure that the following actions are taken where necessary to implement the sanctions selected and maintained by the President, the Secretary of State, or the Secretary of the Treasury:

(i) The Export-Import Bank shall deny approval of the issuance of any guarantee, insurance, extension of credit, or participation in an extension of credit in connection with the export of any goods or services to the sanctioned person;

(ii) Departments and agencies shall not procure, or enter into a contract for the procurement of, any goods or services from the sanctioned person;

(iii) Departments and agencies shall prohibit the exportation, or provision by sale, lease or loan, grant, or other means, directly or indirectly, of any defense article or defense service to the sanctioned person and shall not issue any license or other approval to the sanctioned person under section 38 of the Arms Export Control Act (22 U.S.C. 2778);

(iv) Departments and agencies shall not issue any license, and shall suspend any license, for the transfer to the sanctioned person of any item the export of which is controlled under the Export Control Reform Act of 2018 (subtitle B of title XVII of Public Law 115-232), or the Export Administration Regulations under subchapter C of chapter VII of title 15, Code of Federal Regulations;

(v) The Secretary of State shall deny a visa to, and the Secretary of Homeland Security shall exclude from the United States, the sanctioned person by treating the person as covered by section 1 of Proclamation 8693; or

(vi) The heads of the relevant departments and agencies, as appropriate, shall impose on the principal executive officer or officers of the sanctioned person, or on persons performing similar functions and with similar authorities as such officer or officers, the sanctions described in subsections (a)(i)-(a)(v) of this section, as selected by the President, the Secretary of State, or the Secretary of the Treasury.

(b) The prohibitions in this section apply except to the extent provided by statutes, or in regulations, orders, directives, or licenses that may be issued pursuant to this order, and notwithstanding any contract entered into or any license or permit granted prior to the date of this order.

Sec. 5. (a) Any transaction that evades or avoids, has the purpose of evading or avoiding, causes a violation of, or attempts to violate any of the prohibitions set forth in this order is prohibited.

(b) Any conspiracy formed to violate any of the prohibitions set forth in this order is prohibited.

Sec. 6. I hereby determine that, to the extent section 203(b)(2) of IEEPA (50 U.S.C. 1702(b)(2)) may apply, the making of donations of the types of articles specified in such section by, to, or for the benefit of any sanctioned person whose property and interests in property are blocked pursuant to this order would seriously impair my ability to deal with the national emergencies declared in Executive Orders 13660 and 13694, and I hereby prohibit such donations as provided by sections 1(a)(iv) and 3(a)(i) of this order.

Sec. 7. For the purposes of this order:

(a) the term “person” means an individual or entity;

(b) the term “entity” means a partnership, association, trust, joint venture, corporation, group, subgroup, or other organization;

(c) the term “United States person” means any United States citizen, permanent resident alien, entity organized under the laws of the United States or any jurisdiction within the United States (including foreign branches), or any person within the United States;

(d) the term “financial institution” includes: (i) a depository institution (as defined in section 3(c)(1) of the Federal Deposit Insurance Act (12 U.S.C. 1813(c)(1))), including a branch or agency of a foreign bank (as defined in section 1(b)(7) of the International Banking Act of 1978 (12 U.S.C. 3101(7))); (ii) a credit union; (iii) a securities firm, including a broker or dealer; (iv) an insurance company, including an agency or underwriter; and (v) any other company that provides financial services;

(e) the term “international financial institution” has the meaning given that term in section 1701(c) of the International Financial Institutions Act (22 U.S.C. 262r(c));

(f) the term “United States financial institution” means a financial institution (including its foreign branches) organized under the laws of the United States or of any jurisdiction within the United States or located in the United States; and

(g) the term “sanctioned person” means a person that the President, or the Secretary of State or the Secretary of the Treasury pursuant to authority delegated by the President and in accordance with the terms of such delegation, has determined is a person on whom sanctions shall be imposed pursuant to sections 224(a)(2), 224(a)(3), 231(a), 232(a), or 233(a) of CAATSA or sections 4(a) or 4(b) of UFSA and on whom the President, the Secretary of State, or the Secretary of the Treasury has imposed any of the sanctions in section 235 of CAATSA or section 4(c) of UFSA.

Sec. 8. For those persons whose property and interests in property are blocked pursuant to this order who might have a constitutional presence in the United States, I find that because of the ability to transfer funds or other assets instantaneously, prior notice to such persons of measures to be taken with respect to such property or interests in property pursuant to this order would render those measures ineffectual. I therefore determine that for these measures to be effective in addressing the national emergencies declared in Executive Orders 13660 and 13694, there need be no prior notice of an action taken pursuant to this order with respect to such property or interests in property.

Sec. 9. The unrestricted immigrant and nonimmigrant entry into the United States of aliens on whom sanctions described in sections 1(a)(iv) or 3(a)(i) of this order have been imposed would be detrimental to the interests of the United States, and the entry of such persons into the United States, as immigrants or nonimmigrants, is hereby suspended. Such persons shall be treated as persons covered by section 1 of Proclamation 8693.

Sec. 10. The Secretary of the Treasury, in consultation with the Secretary of State, is hereby authorized to take such actions, including the promulgation of rules and regulations, and to employ all powers granted to the President by IEEPA, and sections 224(a)(2), 224(a)(3), 231(a), 231(e), 232(a), 233(a), and 235 of CAATSA and sections 4(a)-(c) and 4(h) of UFSA with respect to powers to impose sanctions, as may be necessary to carry out the purposes of this order. The Secretary of the Treasury may, consistent with applicable law, redelegate any of these functions within the Department of the Treasury. All departments and agencies of the United States Government shall take all appropriate measures within their authority to carry out the provisions of this order.

Sec. 11. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 20, 2018.

[FR Doc. 2018-20816

Filed 9-20-18; 2:00 pm]

Billing code 3295-F8-P